DEPARTMENT OF THE TREASURY

Office of Foreign Assets Control

31 CFR Part 525

Publication of Directive 1 Under Executive Order 14014 of February 10, 2021

AGENCY: Office of Foreign Assets Control, Treasury.

ACTION: Publication of one directive.

SUMMARY: The Department of the Treasury's Office of Foreign Assets Control (OFAC) is publishing a Burma Sanctions Directive in the Federal Register. The Directive, issued pursuant to a February 10, 2021 Executive Order, was made available on OFAC's website when it was issued.

DATES: Directive 1 under Executive Order 14014, “Prohibitions Related to Financial Services to or for the Benefit of Myanma Oil and Gas Enterprise,” was issued on October 31, 2023.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: www.treas.gov/ofac.

Background

On February 10, 2021, the President, invoking the authority of, inter alia, the International Emergency Economic Powers Act (50 U.S.C. 1701 et seq.), issued Executive Order (E.O.) 14014 (86 FR 9429, February 12, 2021).

In E.O. 14014, the President found the situation in and in relation to Burma, and in particular the February 1, 2021, coup, in which the military overthrew the democratically elected civilian government of Burma and unjustly arrested and detained government leaders, politicians, human rights defenders, journalists, and religious leaders, thereby rejecting the will of the people of Burma as expressed in elections held in November 2020 and undermining the country's democratic transition and rule of law, constitutes an unusual and extraordinary threat to the national security and foreign policy of the United States and declared a national emergency to deal with that threat.

Section 1 of E.O. 14014 blocks all property and interests in property that are in the United States, that hereafter come within the United States, or that are or hereafter come within the possession or control of any United States person of any foreign person determined by the Secretary of the Treasury, in consultation with the Secretary of State, to, among other things, be a political subdivision, agency, or instrumentality of the Government of Burma.

On October 31, 2023, OFAC issued Directive 1 under E.O. 14014, “Prohibitions Related to Financial Services to or for the Benefit of Myanma Oil and Gas Enterprise.” In Directive 1, the Director of OFAC, in consultation with the Department of State, determined that the Myanma Oil and Gas Enterprise (MOGE) is a political subdivision, agency, or instrumentality of the Government of Burma, and that the following activities by a U.S. person are prohibited on or after December 15, 2023, except to the extent provided by law, or unless licensed or otherwise authorized by OFAC: The provision, exportation, or reexportation, directly or indirectly, of financial services to or for the benefit of MOGE or its property or interests in property.

The text of Directive 1 under E.O. 14014 is provided below.

OFFICE OF FOREIGN ASSETS CONTROL

Directive 1 Under Executive Order 14014

Prohibitions Related to Financial Services to or for the Benefit of Myanma Oil and Gas Enterprise

Pursuant to sections 1(a)(iv), 1(b), and 8 of Executive Order 14014, “Blocking Property With Respect to the Situation in Burma” (the “Order”), the Director of the Office of Foreign Assets Control (OFAC) has determined, in consultation with the Department of State that the Myanma Oil and Gas Enterprise (MOGE) is a political subdivision, agency, or instrumentality of the Government of Burma, and that the following activities by a U.S. person are prohibited on or after December 15, 2023 except to the extent provided by law, or unless licensed or otherwise authorized by OFAC:

the provision, exportation, or reexportation, directly or indirectly, of financial services to or for the benefit of MOGE or its property or interests in property.

All other activities with MOGE or involving MOGE's property or interests in property are permitted, provided such activities are not otherwise prohibited by law, the Order, or any other sanctions program implemented by OFAC.

Except to the extent otherwise provided by law or unless licensed or otherwise authorized by OFAC, the following are also prohibited: (a) any transaction that evades or avoids, has the purpose of evading or avoiding, causes a violation of, or attempts to violate any of the prohibitions contained in this Directive; and (b) any conspiracy formed to violate any of the prohibitions in this Directive.

Bradley T. Smith,

Director, Office of Foreign Assets Control.

October 31, 2023.

Bradley T. Smith,
Director, Office of Foreign Assets Control.

[FR Doc. 2024-08366 Filed 4-16-24; 8:45 am]

BILLING CODE 4810-AL-P